DEPARTMENT OF JUSTICE

Notice of Lodging of Consent Decree Pursuant to the Comprehensive Environmental Response, Compensation and Liability Act of 1980 (“CERCLA”)

Notice is hereby given under Section 122(d)(2) of CERCLA, 42 U.S.C. 9622(d)(2), and 28 CFR part 507 that a proposed Consent Decree (“Decree”) in United States v. American Shizuki Corp., The Arnold Engineering Co. and TRW, Inc., Civil Action No. 8:00CV422, was lodged on July 28, 2000, with the United States District Court for the District of Nebraska.

The Complaint filed in the above-referenced matter alleges that Defendants American Shizuki Corp., The Arnold Engineering Co. and TRW, Inc. are liable under Sections 106 and 107 of the Comprehensive Environmental Response, Compensation and Liability Act of 1980, as amended (“CERCLA”), 42 U.S.C. 9606, 9607, for response costs and the performance of response actions related to Operable Unit 1 (“OU1”) at the Ogallala Ground Water Contamination Superfund Site (“Site”) in Ogallala, Nebraska. The Complaint, which was filed simultaneously on July 28, 2000 with the Consent Decree, sought injunctive relief requiring Defendants to abate an imminent and substantial endangerment to the public health and welfare and the environment from an actual and threatened release of hazardous substances by implementing the remedial action for OU1 set forth in EPA's April 23, 1999, Record of Decision (“ROD”).

Under the proposed Decree, Defendants shall finance and perform the Work in accordance with the Decree, the ROD, the Statement Of Work and all work plans and other plans set forth therein or developed by Defendants and approved by EPA pursuant to the Decree. Defendants shall also reimburse the United States for Past Response Costs and Future Response Costs (defined as costs related to the OU1 remedial work) as provided in the Decree. In exchange, the United States is granting Defendants a covenant not to sue or take administrative action against Defendants pursuant to Sections 106 and 107(a) of CERCLA and Section 7003 of RCRA, 42 U.S.C. 6973, for performance of the OU1 Work and for recovery of Past Response Costs and Future Response Costs.

The Department of Justice will receive, for a period of thirty (30) days from the date of this publication, comments relating to the proposed consent decree. Comments should be addressed to the Assistant Attorney General for the Environment and Natural Resources Division, Department of Justice, 950 Pennsylvania Avenue, NW., Washington, DC 20530, and should refer to United States v. American Shizuki, Corp., The Arnold Engineering Co. and TRW, Inc., DOJ Ref. #90-11-3-06448. RCRA 7003(d). Commenters may request an opportunity for a public meeting in the affected area, in accordance with Section 7003(d) of RCRA, 42 U.S.C. 6973(d).

The proposed Decree may be examined at the office of the United States Attorney, District of Nebraska, 1620 Dodge Street, Suite 1400, Omaha, Nebraska 68102, (402) 221-4774; and the Region VII Office of the Environmental Protection Agency, 901 N. 5th Street, Kansas City, KS 66101, 931-551-7714. A copy of the proposed Decree may also be obtained by mail from the Consent Decree Library, P.O. Box 7611, Washington, DC 20044. In requesting a copy of the Consent Decree, please refer to the referenced case and enclose a check in the amount of $19.25 for a copy without attachments or a check in the amount of $69.75 for a copy with attachments (25 cents per page reproduction costs), payable to the Consent Decree Library.

Bruce Gelber,
Deputy Chief, Environmental Enforcement Section, Environment and Natural Resources Division.

[FR Doc. 00-20294 Filed 8-9-00; 8:45 am]

BILLING CODE 4410-15-M